DEPARTMENT OF ENERGY

Federal Energy Regulatory Commission

Combined Notice Of Filings #1

Take notice that the Commission received the following electric corporate filings:

Docket Numbers: EC14-50-000.

Applicants: Northern States Power Company, a Minnesota corporation, Border Winds Energy, LLC, Pleasant Valley Wind, LLC.

Description: Authorization under Section 203 of the Federal Power Act.

Filed Date: 1/30/14.

Accession Number: 20140130-5367.

Comments Due: 5 p.m. ET 2/20/14.

Take notice that the Commission received the following electric rate filings:

Docket Numbers: ER10-2249-003.

Applicants: Portland General Electric Company.

Description: Notice of Non-Material Change in Status of Portland General Electric Company.

Filed Date: 1/30/14.

Accession Number: 20140130-5369.

Comments Due: 5 p.m. ET 2/20/14.

Docket Numbers: ER10-2881-011; ER10-2882-011; ER10-2883-011; ER10-2884-011; ER10-2885-011; ER10-2641-011; ER10-2663-011; ER10-2886-011; ER13-1101-006; ER13-1541-005.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC.

Description: Notification of Non-Material of Change in Status of Alabama Power Company, et. al.

Filed Date: 1/30/14.

Accession Number: 20140130-5386.

Comments Due: 5 p.m. ET 2/20/14.

Docket Numbers: ER14-1209-000.

Applicants: Southwest Power Pool, Inc.

Description: Attachment H and Attachment T Clean-Up Filing to be effective 1/1/2012.

Filed Date: 1/30/14.

Accession Number: 20140130-5178.

Comments Due: 5 p.m. ET 2/20/14.

Docket Numbers: ER14-1210-000.

Applicants: Midcontinent Independent System Operator, Inc.

Description: 2014-01-30_SA 6502 Illinois Power-Edwards SSR Agreement to be effective 1/1/2014.

Filed Date: 1/30/14.

Accession Number: 20140130-5190.

Comments Due: 5 p.m. ET 2/20/14.

Docket Numbers: ER14-1211-000.

Applicants: PacifiCorp.

Description: Salt River Project MOU ? First Revised to be effective 4/1/2014.

Filed Date: 1/30/14.

Accession Number: 20140130-5192.

Comments Due: 5 p.m. ET 2/20/14.

Docket Numbers: ER14-1212-000.

Applicants: Midcontinent Independent System Operator, Inc.

Description: 2014-01-30_Schedule 43C Illinois Power Edwards SSR to be effective 1/1/2014.

Filed Date: 1/30/14.

Accession Number: 20140130-5198.

Comments Due: 5 p.m. ET 2/20/14.

Docket Numbers: ER14-1213-000.

Applicants: Puget Sound Energy, Inc.

Description: The Boeing Company TX Agreements 676, 677 & 678 to be effective 1/1/2014.

Filed Date: 1/30/14.

Accession Number: 20140130-5200.

Comments Due: 5 p.m. ET 2/20/14.

Docket Numbers: ER14-1214-000.

Applicants: Puget Sound Energy, Inc.

Description: Amcor Rigid Plastics USA, Inc. to be effective 1/1/2014.

Filed Date: 1/30/14.

Accession Number: 20140130-5258.

Comments Due: 5 p.m. ET 2/20/14.

Docket Numbers: ER14-1215-000.

Applicants: Duke Energy Carolinas, LLC.

Description: DEC OATT SA Nos. 208, 406, 447 and 448 (2014) to be effective 1/1/2014.

Filed Date: 1/30/14.

Accession Number: 20140130-5262.

Comments Due: 5 p.m. ET 2/20/14.

Docket Numbers: ER14-1216-000.

Applicants: California Independent System Operator Corporation.

Description: 2014-01-30_RevisionsToPriceCorrections to be effective 2/10/2014.

Filed Date: 1/30/14.

Accession Number: 20140130-5269.

Comments Due: 5 p.m. ET 2/20/14.

Docket Numbers: ER14-1217-000.

Applicants: Southwest Power Pool, Inc.

Description: Southwestern Power Administration Rate Change to be effective 10/1/2013.

Filed Date: 1/30/14.

Accession Number: 20140130-5271.

Comments Due: 5 p.m. ET 2/20/14.

Docket Numbers: ER14-1218-000.

Applicants: Armstrong Energy Limited Partnership, L.L.L.P.

Description: Notice of Succession to be effective 1/31/2014.

Filed Date: 1/30/14.

Accession Number: 20140130-5333.

Comments Due: 5 p.m. ET 2/20/14.

Docket Numbers: ER14-1219-000.

Applicants: Armstrong Energy Limited Partnership, L.L.L.P.

Description: Notice of Succession and Non-Material Change in Status to be effective 1/31/2014.

Filed Date: 1/30/14.

Accession Number: 20140130-5338.

Comments Due: 5 p.m. ET 2/20/14.

Docket Numbers: ER14-1220-000.

Applicants: California Independent System Operator Corporation.

Description: 2014-01-30_RA_OneForMany to be effective 4/1/2014.

Filed Date: 1/30/14.

Accession Number: 20140130-5341.

Comments Due: 5 p.m. ET 2/20/14.

Docket Numbers: ER14-1221-000.

Applicants: PJM Interconnection, L.L.C.

Description: ISAs for the Transfer Of Ohio Power Company's Generating Facilities to be effective 12/31/2013.

Filed Date: 1/30/14.

Accession Number: 20140130-5342.

Comments Due: 5 p.m. ET 2/20/14.

Docket Numbers: ER14-1222-000.

Applicants: PJM Interconnection, L.L.C.

Description: First Revised Service Agreement No. 3195; Queue Position W1-113/W2-078 to be effective 12/31/2013.

Filed Date: 1/30/14.

Accession Number: 20140130-5345.

Comments Due: 5 p.m. ET 2/20/14.

Docket Numbers: ER14-1223-000.

Applicants: Pure Energy USA LLC.

Description: MBR Application to be effective 3/31/2014.

Filed Date: 1/30/14.

Accession Number: 20140130-5347.

Comments Due: 5 p.m. ET 2/20/14.

Docket Numbers: ER14-1224-000.

Applicants: Duke Energy Carolinas, LLC.

Description: PMPA NITSA revisions OATT SA 355 to be effective 1/1/2014.

Filed Date: 1/30/14.

Accession Number: 20140130-5352.

Comments Due: 5 p.m. ET 2/20/14.

Docket Numbers: ER14-1225-000.

Applicants: Southwest Power Pool, Inc.

Description: Implement Lea County Stated Rate to be effective 4/1/2014.

Filed Date: 1/30/14.

Accession Number: 20140130-5359.

Comments Due: 5 p.m. ET 2/20/14.

Docket Numbers: ER14-1226-000.

Applicants: Portland General Electric Company.

Description: Order 784 Compliance Filing for MBR to be effective 1/31/2014.

Filed Date: 1/31/14.

Accession Number: 20140131-5000.

Comments Due: 5 p.m. ET 2/21/14.

Docket Numbers: ER14-1227-000.

Applicants: Verus Energy Trading, LLC.

Description: Notice of Cancellation of MBR Tariff to be effective 2/1/2014.

Filed Date: 1/31/14.

Accession Number: 20140131-5049.

Comments Due: 5 p.m. ET 2/21/14.

Take notice that the Commission received the following public utility holding company filings:

Docket Numbers: PH14-5-000.

Applicants: LS Power Development, LLC.

Description: FERC 65-B Waiver Notification.

Filed Date: 1/30/14.

Accession Number: 20140130-5392.

Comments Due: 5 p.m. ET 2/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2014.
Nathaniel J. Davis, Sr.,
Deputy Secretary.

[FR Doc. 2014-02679 Filed 2-7-14; 8:45 am]

BILLING CODE 6717-01-P